DEPARTMENT OF AGRICULTURE

Agricultural Research Service

Renewal of the Advisory Committee on Biotechnology and 21st Century Agriculture

AGENCY: Office of the Under Secretary, Research, Education, and Economics, USDA.

ACTION: Notice.

SUMMARY: The Secretary of Agriculture intends to renew the Advisory Committee on Biotechnology and 21st Century Agriculture (AC21) for a 2-year period.

FOR FURTHER INFORMATION CONTACT: Questions should be addressed to Michael Schechtman, Designated Federal Official, telephone (202) 720-3817; fax (202) 690-4265; e-mail michael.schechtman@ars.usda.gov.

SUPPLEMENTARY INFORMATION: Advisory Committee Purpose: USDA supports the responsible development and application of biotechnology within the global food and agricultural system. Biotechnology intersects many of the policies, programs and functions of USDA. The charge for the AC21 is two-fold: To examine the long-term impacts of biotechnology on the U.S. food and agriculture system and USDA; and to provide guidance to USDA on pressing individual issues, identified by the Office of the Secretary, related to the application of biotechnology in agriculture. The AC21 will meet in Washington, DC, up to four (4) times per year.

Catherine Woteki,
Under Secretary for Research, Education, Economics.

[FR Doc. 2011-1203 Filed 1-18-11; 8:45 am]

BILLING CODE 3410-34-P